SECURITIES AND EXCHANGE COMMISSION

[Release No. 34-68992]

Public Availability of the Securities and Exchange Commission's FY 2012 Service Contract Inventory

AGENCY: U.S. Securities and Exchange Commission.

ACTION: Notice.

SUMMARY: In accordance with Section 743 of Division C of the Consolidated Appropriations Act of 2010 (Pub. L. 111-117), SEC is publishing this notice to advise the public of the availability of the FY2012 Service Contract Inventory (SCI) and the FY2011 SCI Analysis. The SCI provides information on FY2012 actions over $25,000 for service contracts. The inventory organizes the information by function to show how SEC distributes contracted resources throughout the agency. SEC developed the inventory per the guidance issued on November 5, 2011 by the Office of Management and Budget's Office of Federal Procurement Policy (OFPP). OFPP's guidance is available at http://www.whitehouse.gov/sites/default/files/omb/procurement/memo/service-contract-inventories-guidance-11052010.pdf. The Service Contract Inventory Analysis for FY2011 provides information based on the FY2011 Inventory. The SEC has posted its inventory, a summary of the inventory and the FY2011 analysis on the SEC's homepage at http://www.sec.gov/about/secreports.shtml or http://www.sec.gov/open.

FOR FURTHER INFORMATION CONTACT: Direct questions regarding the service contract inventory to Vance Cathell, Director, Office of Acquistions, 202.551.8385 or CathellV@sec.gov.

Dated: February 27, 2013.
Elizabeth M. Murphy,
Secretary.

[FR Doc. 2013-04917 Filed 3-1-13; 8:45 am]

BILLING CODE 8011-01-P